DEPARTMENT OF COMMERCE

National Oceanic and Atmospheric Administration

[Docket No.: 011113275-2037-02; I.D. 030602A]

RIN 0648-ZB11

Coral Reef Conservation Grant Program Implementation Guidelines

AGENCY: National Marine Fisheries Service (NMFS), National Ocean Service (NOS), Commerce.

ACTION: Final Implementation Guidelines for the Coral Reef Conservation Program.

SUMMARY: This document provides NOAA's Implementation Guidelines (Guidelines) for the Coral Reef Conservation Program (Program) under the Coral Reef Conservation Act of 2000 (Act). The Act authorizes the Secretary of Commerce (Secretary), through the NOAA Administrator (Administrator) and subject to the availability of funds, to provide matching grants of financial assistance for coral reef conservation projects under the Act (Coral Reef Conservation Program). As per the Act, NOAA has developed these Implementation Guidelines for the Program for Fiscal Year (FY) 2002 through FY 2004. Proposed Implementation Guidelines were published in the Federal Register for review and comment on December 10, 2001. NOAA will use several existing grant programs and mechanisms to implement the Program. Specific Program information including available funding, dates, and detailed application requirements and proposal evaluation criteria for FY 2002 are published concurrently with these Guidelines in a separate Federal Register Notice of Availability of financial assistance for coral reef conservation activities. NOAA is in the final stages of completing the National Coral Reef Action Strategy (Strategy), in consultation with the United States Coral Reef Task Force (USCRTF), as required under the Act. The purpose of the Strategy is to provide an implementation plan to advance coral reef conservation, including basis for funding allocations to be made under the Program. Upon final completion of the Strategy, NOAA will publish notice of the Availability of the Strategy in the Federal Register and at: www.coralreef.noaa.gov/. The Department of Commerce Pre-Award Notification Requirements for Grants and Cooperative Agreements contained in the Federal Register notice of October 1, 2001, will be applicable to the funding guidance under this Program. This document is not a solicitation for FY 2002 project proposals.

DATES: Effective April 19, 2002.

FOR FURTHER INFORMATION CONTACT: David Kennedy, NOAA Coral Program Coordinator, Office of Response and Restoration, N/ORR, NOAA National Ocean Service, 1305 East-West Highway, Silver Spring, MD 20910, Fax: 301-713-4389; Bill Millhouser, Pacific Regional Manager, CPD/OCRM, N/ORM3, NOAA National Ocean Service, 1305 East-West Highway, Silver Spring, MD 20910, 301-713-3155, extension 189 or e-mail at bill.millhouser@noaa.gov; or Tom Hourigan, Biodiversity Program Leader, NOAA Watershed Division, HC-1, NOAA National Marine Fisheries Service, 1315 East-West Highway, Silver Spring, MD 20910, 301-713-2319, extension 121 or e-mail at tom.hourigan@noaa.gov.

SUPPLEMENTARY INFORMATION:

I. Background

A. Overview

The Coral Reef Conservation Act of 2000 was enacted on December 14, 2000, for the following purposes:

1. To preserve, sustain and restore the condition of coral reef ecosystems;

2. To promote the wise management and sustainable use of coral reef ecosystems to benefit local communities and the Nation;

3. To develop sound scientific information on the condition of coral reef ecosystems and the threats to such ecosystems;

4. To assist in the preservation of coral reefs by supporting conservation programs, including projects that involve affected local communities and non-governmental organizations;

5. To provide financial resources for those programs and projects; and

6. To establish a formal mechanism for the collecting and allocating of monetary donations from the private sector to be used for coral reef conservation projects.

Under section 6403 of the Act, the Program authorizes the Secretary, through the Administrator and subject to the availability of funds, to provide matching financial assistance awards for coral reef conservation projects. Section 6408(c) of the Act authorizes up to $8,000,000 in each of FY 2001 through FY 2004 for projects under the Program.

NOAA will use several existing grant programs and mechanisms to implement the Program. Each fiscal year the Program will publish a Federal Register Notice to describe the availability of funds and solicit project proposals. The annual funding guidance, beginning in FY 2002, will provide greater detail on the year's program priorities, application process, and proposal evaluation criteria.

B. Comments and Responses, and Changes to the Proposed Guidelines

The following summarizes the comments submitted in response to the Draft Guidelines published in the Federal Register on December 10, 2001, and NOAA's responses:

Comment 1: A commenter representing the coral reef research community raises concerns regarding the lack of support for long term funding for coral reef research, noting that if the goal of the funding is to support meaningful science and conservation projects, at least half the funds should be earmarked for 3-5 year projects. Moreover, the portion of the Guidelines that gives preference to projects that will be completed within 12 months of award distribution basically precludes funding much high quality, meaningful science, which generally requires multi-year efforts. The commenter notes that this language in Section IX. contradicts statements in Section VII. Funding Categories, and Mechanisms, and Section X. Project Review, which are concerned with long-term coral monitoring data and long-lasting conservation activities.

Response: NOAA generally agrees with the comment that there is a need to support a long range coral reef research funding program. However, NOAA is limited in its ability to initiate such a effort given the uncertainty that recent increases in Federal Coral Reef funding will be sustained over the next 3-4 years. Although the FY 2003 budget proposal maintains current funding levels for coral reef conservation activities, there are many competing budget priorities that can affect the final budget. NOAA will further consider funding long range research if continued budget support becomes more certain. In the interim NOAA has added a funding category for coral reef ecosystem research projects for the purpose of developing sound scientific information on the condition of coral reef ecosystems or threats to such ecosystems (see section VII(3) below). In FY 2002, funding under this category will be targeted at improving coral monitoring technologies. In addition, National Ocean Service (NOS) published in the Federal Register on February 28, 2002, an announcement of funding opportunity to submit proposals for the coral ecosystem studies which is for long term coral reef ecosystem research.

Comment 2: A commenter with experience in coral reef research states that the proposed guidelines are thorough and that NOAA's focus on education, local partnerships, coral health/vitality, mapping, and restoration is key and much needed. The commenter suggests adding marine protected areas (MPAs) and/or adaptive management research to the list of Eligible Conservation Activities in section V of the Guidelines, citing recommendations from the 9th International Coral Reef Symposium and states that more research is needed on the shape and use of buffer zones in MPA implementation. For example, mixed research results indicate an uncertain relationship between MPA size and success. Clearly more research is needed to dissect the cause and effect relationship between the success of MPAs and their size, location, connectivity, and the association with the surrounding environment.

Response: NOAA agrees with the comment as to the need to fund projects which develop a better understanding of the characteristics of successful MPAs. Research activities to improve the design and effectiveness of marine protected areas in coral reef ecosystems are eligible for funding under the State and Territorial coral reef management, general coral reef conservation, regional fishery management council, and international grant categories in FY 2002. We have not changed section V of the Guidelines; however, the language in this section reflects the specific statutory language of section 204(g) of the Act. NOAA is also undertaking such analyses with regard to specific areas of the Florida Key National Marine Sanctuary, and Hawaii and Guam are evaluating the effectiveness of the existing MPAs and beginning to examine the types of issues noted in the comment. In addition, the need for this type of research is specifically noted in several sections of the Strategy (Conduct Strategic Research and Improve The Use of Marine Protected Areas).

A commenter representing coastal states and territories, provides specific comments on a number of sections of the Guidelines:

Comment 3: The commenter reiterates the importance of language in Section IV. Applicant Eligibility Requirements, that gives a low priority to grants to Federal agencies and the requirement that proposed Federal agency projects must be in collaboration and coordination with state or local public or non-governmental organizations. The intent of the program is to benefit local coral reef initiatives within the Pacific and Atlantic Oceans, the Gulf of Mexico, and the Caribbean Sea.

Response: NOAA agrees with the comment that the Guidelines should give a low priority to funding Federal agencies, unless specific conditions are met; the final Guidelines maintain the language of the draft Guidelines in this regard. Please note, that section 6403(d)(3) of the Act also provides for the funding of international projects, as provided in the Guidelines.

Comment 4: The Strategy should be reconciled and integrated with other required Federal reports and studies such as the U.S. Coral Reef Task Force Oversight Policy, as well as other grants-related requests and information to reduce redundancy and effort.

Response: NOAA agrees that the various reporting requirements noted above should be consolidated as much as possible. NOAA will continue to work with state and territorial grantees and the Coral Reef Task Force agencies to address this issue over the coming year.

Comment 5: The Guidelines and the Strategy include a discussion of the interrelationship and integrated nature of coral reef management with response to the objectives of the Coastal Zone Management Act and federally approved coastal zone management programs. It is also recommended that the project reporting under the implementation guidelines include information regarding project coordination with the goals and objectives of federally approved coastal zone management (CZM) programs.

Response: NOAA believes that coral reef conservation and coastal management share many conservation and management objectives. In most cases, the same state or territorial agency is the lead for both coastal management and coral management functions; in cases where they are not, good local coordination is in place. The Guidelines and the FY 2002 Funding Guidance also require that state and territorial coral reef projects must be developed in partnership with all relevant local agencies, including the coastal zone management, water quality, and the wildlife and/or marine resource agencies. Given the high degree of coordination that currently exists, NOAA does not believe that specific reporting on project coordination with CZM goals is necessary.

Comment 6: The language in Section VI instructing the Administrator to consult with the Coral Reef Task force when identifying emerging threats or priorities should be changed from “may” to “shall whenever possible.” The commenter also notes the possible disparity between national and local level priorities, recommends close coordination at the local level to identify priorities for funding and recommends flexibility in determining priorities as they relate to criteria for grant approval.

Response: NOAA agrees with the need to carefully balance National goals and priorities with local conditions, objectives and customs. NOAA believes that the Guidelines and the FY 2002 funding guidance provide such a balance. With regard to the suggested language change regarding consultation with the Coral Reef Task Force, the Guidelines restate the statutory language of the Act, section 6403(d); therefore, the language has not been changed. Please note that the Coral Reef Task Force Working Groups, and states and territories have been consulted with, and have had substantial input into, the development of the Strategy.

Comment 7: The proposed implementation guidelines, in section VII. Funding Categories and Mechanisms, should be clarified to ensure that while one state agency may be the lead for managing grants or cooperative agreements, funds may be made available for use by any approved state agency.

Response: The Guidelines require that state and territorial proposals be developed in partnership with all relevant local agencies and organizations which have responsibilities for the management and conservation of coral reefs in that jurisdiction. The funding provided to any one agency should reflect local priorities and needs and be commensurate with that agency's responsibility and authority to achieve improved protection of coral reef ecosystem resources.

Comment 8: The implementation Guidelines should clarify the relationship between the grants or cooperative agreements made pursuant to the Act and these guidelines, and guidance and corresponding authorized cites for each funding category, e.g., the Coastal Zone Management Act (CZMA) section 310; CFDA 11.426; and CFDA 11.463.

Response: As noted above, projects funded pursuant to the CZMA and the Act should complement each other. Based on our experience to date, NOAA does not see a need to provide more explicit guidance on this issue.

Comment 9: The language in Section X. Project Review relating to state and territorial review of projects, should be changed from “projects in state or territorial waters” to “projects affecting state territorial waters.”

Response: NOAA believes the language contained in the draft Guidelines is consistent with the statutory construction of section 6403(f)(2)(A) of the Act which requires review by agencies “with jurisdiction or management authority over coral reef ecosystems in the area where the project is to be conducted.” NOAA has therefore retained that language in the final Guidelines. As the commenter has suggested language used in the application of the Federal Consistency provisions of the CZMA, NOAA notes that Federal consistency provisions do apply to Federal funding under the Coral Reef Conservation Program. Applicants should refer to the Coastal Zone Management Act Federal Consistency Regulations at 15 CFR part 930, to ensure compliance with these requirements.

Comment 10: A commenter representing a field office of the U.S. Fish and Wildlife Service, agrees with the objective to support coral reef conservation through a grant system. However, the commenter expresses concern that the guidelines are too vague regarding review and approval of projects occurring in areas administered by the Department of the Interior, specifically National Wildlife Refuges. The commenter recommends that the annual solicitations for project proposals inform readers that proposals submitted for activities within National Wildlife Refuges will be reviewed by the Service pursuant to the National Wildlife Refuge System Administration Improvement Act of 1997 and other relevant authorities. The commenter recommends adding a new sentence to Section IX. Application Process (subsection 5), as follows: “Proposed projects within National Wildlife Refuges must be determined by the U.S. Fish and Wildlife Service, pursuant to the National Wildlife Refuge System Administration Improvement Act of 1997, to be compatible with established refuge purposes and management objectives in order for the Service to issue a Special Use Permit to conduct the proposed activities.”

Response: NOAA agrees with the need for projects that occur within National Wildlife Refuges to obtain all necessary authorizations and permits from the U.S. Fish and Wildlife Service. We believe that the language in Section IX of the guidelines are clear in requiring applicants to submit all applicable Federal permits. We have added language to the end of Section X of the guidelines which states that agencies with jurisdiction over proposed project, such as the U.S. Fish and Wildlife Service will provide assurance that the applicant is proceeding to obtain a permit or other authorization from that jurisdiction in order to conduct the project, and the status of that process. As noted in Section X(3)(b)(v) of the guidelines, NOAA will require applicants to obtain all required state and Federal permits as a condition of making an award.

Comment 11: A commenter representing a U.S. Territory recommends that the process for establishing national priorities include close consultation at the local level. The commenter also recommends shortening the time frame for NOAA's review and approval of proposed projects from 6 months to 2-4 months so that projects may begin on time.

Response: NOAA believes that the process used to develop the Guidelines and the Strategy has included adequate consultation regarding local priorities and needs, and further, that the coral grants program provides the necessary flexibility to meet those needs. NOAA agrees with the objective of reducing the time necessary for the review of coral grant applications; we believe the time line described in the FY 2002 is reasonable given the Act's requirements for application review by peers and affected jurisdictions, and NOAA's internal grant process.

In summary the Guidelines have been substantively changed in the following areas:

1. A new funding category has been added at Section VII (3) to provide potential funding for coral reef ecosystem research projects for the purpose of developing sound scientific information on the condition of coral reef ecosystems or threats to such ecosystems.

2. Section X has been modified to request that agencies that are reviewing applications provide NOAA with information on the need for the applicant to obtain a permit or other authorization from the agency in order to conduct the project, and the status of that process.

II. Electronic Access

The Coral Reef Conservation Act of 2000 and information on the U.S. Coral Reef Task Force, established June 11, 1998 under Executive Order 13089, can be found on the Internet at: http://www.coralreef.noaa.gov.

III. Coral Reef Conservation Program

The objective of the Program is to provide financial assistance for coral reef conservation projects consistent with the Act and the Strategy. NOAA's role in administering the Program is to strengthen and support the development and implementation of sound coral reef conservation projects, as well as ensure that the most beneficial projects are recommended for funding.

IV. Applicant Eligibility Requirements

As per section 6403(c) of the Act, eligible applicants include: Any natural resource management authority of a state or other government authority with jurisdiction over coral reefs or whose activities directly or indirectly affect coral reefs or coral reef ecosystems, or educational or non-governmental institutions with demonstrated expertise in the conservation of coral reefs. Each subcategory of funding under this Program, as described in Section VII of this document, encompasses a specific subgroup of eligible applicants.

As a matter of policy, funding Federal agency activities under this Program will be a low priority unless such activities are an essential part of a cooperative project with other eligible governmental or non-governmental entities. In order for a Federal agency to receive an award under this program, it must provide the requisite statutory authority to receive funds from a federal agency for these purposes. Please note that the Economy Act, 31 USC 1535, is not sufficient legal authority because NOAA is not procuring goods or services from the federal agency.

NOAA agencies are not eligible for funding under this Program, as funding for such activities is provided for under section 6406 of the Act (National Program).

V. Eligible Coral Reef Conservation Activities

As described in section 6403(g) of the Act, projects considered for funding under this Program must be consistent with the Strategy, published concurrently in the Federal Register. In addition, per the same section, the Administrator may not approve a project proposal unless it will enhance the conservation of coral reefs by addressing at least one of the following:

1. Implementing coral conservation programs which promote sustainable development and ensure effective, long-term conservation of coral reefs;

2. Addressing the conflicts arising from the use of environments near coral reefs or from the use of corals, species associated with coral reefs, and coral products;

3. Enhancing compliance with laws that prohibit or regulate the taking of coral products or species associated with coral reefs or regulate the use and management of coral reef ecosystems;

4. Developing sound scientific information on the condition of coral reef ecosystems or the threats to such ecosystems, including factors that cause coral disease;

5. Promoting and assisting to implement cooperative coral reef conservation projects that involve affected local communities, non-governmental organizations, or others in the private sector;

6. Increasing public knowledge and awareness of coral reef ecosystems and issues regarding their long term conservation;

7. Mapping the location and distribution of coral reefs;

8. Developing and implementing techniques to monitor and assess the status and condition of coral reefs;

9. Developing and implementing cost-effective methods to restore degraded coral reef ecosystems; or

10. Promoting ecologically sound navigation and anchorages near coral reefs.

VI. Program Funding and Distribution

Section 6408(c) of the Act authorizes up to $8,000,000 for use by the Secretary for FY 2001 through FY 2004 for the Program. The number of individual awards to be made each year will depend on the total amount of funds appropriated for coral reef activities within NOAA and the portion of those funds that are allocated to this Program. The total annual Program funding amount, suggested ranges for funding requests, and specific funding categories under which an applicant may choose to apply will be published in the Program's annual Federal Register funding guidance.

Program funding awarded during any given fiscal year will be distributed, per section 6403(d) of the Act, in the following manner:

(1) No less than 40 percent of funds available shall be awarded for coral reef conservation projects in the Pacific Ocean within the maritime areas and zones subject to the jurisdiction or control of the United States;

(2) No less than 40 percent of funds available shall be awarded for coral reef conservation projects in the Atlantic Ocean, Gulf of Mexico and the Caribbean Sea within the maritime areas and zones subject to the jurisdiction or control of the United States; and

(3) Remaining funds shall be awarded for projects that address emerging priorities or threats, including international priorities or threats, identified by the Administrator. When identifying emerging threats or priorities, the Administrator may consult with the Coral Reef Task Force.

VII. Funding Categories and Mechanisms

In order to ensure adequate funding for each of the purposes envisioned under the Act and provide for a balanced overall Program, existing NOAA programs will be used to award funds in the six funding categories described below. Each of the six categories references the general activity and applicant eligibility requirements associated with proposals submitted therein. Specific activity and applicant eligibility information and proposal evaluation criteria for each category for FY 2002, consistent with Guideline sections IV. Applicant Eligibility Requirements, VI. Funding and Funding Distribution, VIII. Matching Funds, IX. Application Process, and X. Project Review, are found in the FY 2002 funding guidance, published concurrently with these Guidelines.

(1) U.S. state and territorial government coral reef conservation activities, as described in Section V(1-10) of the Guidelines (section 6403(g) of the Act) for the purpose of comprehensively managing coral reef ecosystems and associated fisheries within their jurisdictions. Eligibility to receive an award is limited to one agency in each state or territory with jurisdiction over coral reefs, as designated by the respective governors. These proposals will be reviewed and awarded by the National Ocean Service (NOS) Office of Ocean and Coastal Resource Management (OCRM), pursuant to section 310 of the Coastal Zone Management Act, under title, Coastal Zone Management Program, CFDA 11.419.

(2) U.S. state and territorial government coral reef ecosystem monitoring and/or assessment activities, as described in Section V(8) of the Guidelines (section 6403(g)(8) of the Act). Such activities include the collection, analysis, and reporting of long-term coral reef monitoring data pursuant to scientifically valid methodologies and protocols. Eligible applicants are limited to one natural resource management authority in each U.S. state or territory, or Freely Associated State with jurisdiction over coral reefs, as designated by the respective governors or other applicable senior jurisdictional officials. Cooperative agreements between these agencies and the NOS National Centers for Coastal and Ocean Science (NCCOS) will be developed without competition under title, Financial Assistance for National Centers of Coastal Ocean Science, CFDA 11.426.

(3) Coral reef ecosystem research projects for the purpose of developing sound scientific information on the condition of coral reef ecosystems or threats to such ecosystems, including research to develop monitoring and assessment technologies, as described in section V(4) of the Guidelines (section 6403(g)(4) of the Act). Eligible applicants include all those described under section 6403(c) of the Act (section IV of the Guidelines). These proposals will be reviewed and awarded by the NOS National Centers for Coastal and Ocean Science under title, Financial Assistance for National Centers of Coastal Ocean Science, CFDA 11.426.

(4) U.S. state, territorial, or other governmental and non-governmental entities, not eligible under other categories, for the purpose of implementing cooperative coral reef conservation, protection, restoration, research, or education projects, as described in Section V(1-10) of the Guidelines (section 6403(g) of the Act). These proposals will be reviewed and awarded by the National Marine Fisheries Service (NMFS) Office of Habitat Conservation (OHC) under title, Habitat Conservation, CFDA 11.463.

(5) Projects to develop, improve, or amend Fishery Management Plans to conserve, protect and restore coral reef habitats and associated fishery populations within the U.S. Exclusive Economic Zone, with the overall goal of improving the management of coral reefs and associated organisms through the avoidance of fishing impacts, ecosystem management or similar approaches and practices as described in Section V(3) of the Guidelines (section 6403(g)(3) of the Act). Eligible applicants include Regional Fishery Management Councils with jurisdiction over coral reefs, as established under the Magnuson-Stevens Fishery Conservation and Management Act (16 U.S.C. 1801 et seq.). These proposals will be reviewed and awarded by the NMFS Office of Habitat Conservation under title, Regional Fishery Management Councils, CFDA 11.441.

(6) International coral reef conservation projects for the purpose of implementing cooperative coral reef conservation activities as described in Section V(1-10) of the Guidelines (section 6403(g) of the Act). Eligible applicants include all international governmental and non-governmental entities, including those in the Freely Associated States of the Pacific. These proposals will be reviewed and awarded by the NOS International Programs Office or the NMFS Office of Habitat Conservation, as appropriate, under title, Habitat Conservation, CFDA 11.463.

The FY 2002 funding guidance establishes the range of funds available and specific evaluation criteria for each of these six categories. NOAA may add additional funding categories in the annual funding guidance based on available funding and/or coral reef conservation priorities under the Strategy. Applicants will be required to specify in their application the category(s) under which they are applying for funding. Selected applications may be funded and awards administered by NOAA, through either NMFS or NOS. Generally, one award will be made for each proposal accepted for funding.

NOAA will determine the most appropriate funding mechanisms (grant, cooperative agreement, or interagency agreement) for selected individual projects, in consultation with the applicant, based on the type of recipient and on the degree of direct NOAA involvement with the project.

Proposals from non-Federal applicants that are selected for funding will be funded either through a project grant or cooperative agreement. Selected Federal proposals will be funded through interagency agreements; however, under the Program, such agreements must also include a local sponsor of the coral reef conservation project.

VIII. Matching Funds

As per section 6403(b)(1) of the Act, Federal funds for any coral conservation project funded under this Program may not exceed 50 percent of the total costs of such project. The match may comprise a variety of public and private sources and can include in-kind contributions and other non-cash support. NOAA strongly encourages applicants to leverage as much investment as possible. Federal funds may not be considered as matching funds.

For applicants who can not meet the match requirement, as per section 6403(b)(2) of the Act, the Secretary may waive all or part of the matching requirement if the Administrator determines that the project meets the following two requirements:

(1) No reasonable means are available through which an applicant can meet the matching requirement, and

(2) The probable benefit of such project outweighs the public interest in such matching requirement.

Applicants must specify in their proposal the source and amount of the proposed match and may be asked to provide letters of commitment to confirm stated contributions. In the case of a waiver request, the applicant must provide a detailed justification explaining the need for the waiver, as described in Section IX(6) of these Guidelines.

Notwithstanding any other provision herein, and in accordance with 48 U.S.C. 1469a(d), this Program shall waive any requirement for local matching funds for any project under $200,000 (including in-kind contributions) to the governments of Insular Areas, defined as the jurisdictions of the U.S. Virgin Islands, Guam, American Samoa, and the Commonwealth of the Northern Mariana Islands.

IX. Application Process

NOAA will publish in the Federal Register one annual funding guidance soliciting project proposals, pursuant to these Guidelines. Applications submitted in response to this guidance will be screened for eligibility and conformance with the Program Guidelines.

To submit a proposal, a complete Federal financial assistance awards application package must be filed in accordance with the guidelines in this document and instructions in the Department of Commerce Pre-Award Notification Requirements for Grants and Cooperative Agreements contained the Federal Register notice of October 1, 2001.

A more detailed description of specific application requirements will be published in the annual funding guidance; however, pursuant to section 6403(e) of the Act and NOAA, each application must include the following elements:

(1) A cover sheet with the name of the individual or entity responsible for conducting the project;

(2) A description of the qualifications of the individual(s) who will conduct the project;

(3) A succinct statement of the purposes of the project, including the specific geographic location where the project will be carried out;

(4) An estimate of the funds and time required to complete the project including: a detailed breakdown by category of cost estimates as they relate to specific aspects of the project, with appropriate justification for both the Federal and non-Federal shares;

(5) Evidence of support for the project by appropriate representatives of states or other government jurisdictions in which the project will be conducted, including obtaining or proceeding to obtain all applicable State and/or Federal permits, consultations, and consistencies. U.S. state or territorial applicants must also provide evidence of coordination with all relevant state or territorial agencies, including a list of agencies consulted in developing the proposal;

(6) Information regarding the amount of matching funding available to the applicant. In the case of a waiver request, the applicant must provide a detailed justification explaining the need for the waiver including attempts to obtain sources of matching funds, how the benefit of the project outweighs the public interest in providing match, and any other extenuating circumstances preventing the availability of match;

(7) A description of how the project meets one or more of the goals and objectives stated in Section V of the Guidelines (section 6403(g) of the Act); and

(8) Any other information the Administrator considers to be necessary for evaluating the eligibility of the project for funding under this title.

In order to streamline the application and award process, and to allow NOAA to fully evaluate all coral reef conservation applications in the context of the overall Program, applicants must indicate under which category(s) (as described in Section VII of these Guidelines) they are seeking funds, and are encouraged to submit only one comprehensive application per funding guidance. The Program will give preference to projects where requested funding will be used to complete proposed coral reef conservation activities within a period of 12 to 18 months from the time the awards are distributed.

X. Project Review

As per section 6203(f) of the Act, NOAA will review eligible coral reef conservation proposals using an external governmental review and merit-based peer review. After such reviews, NOAA will implement an internal ranking and selection process. The overall project review and selection process will include the following five steps:

1. NOAA will request and consider written comments on the proposal from each Federal agency, state government, or other government jurisdiction, including the relevant regional Fishery Management Councils established under the Magnuson-Stevens Fishery Conservation and Management Act (16 U.S.C. 1801 et seq.), or any National Marine Sanctuary, with jurisdiction or management authority over coral reef ecosystems in the area where the project is to be conducted. Pursuant to this requirement of the Act, NOAA will apply the following standard in requesting comments:

(a) Proposals for projects in state or territorial waters, including Federal marine protected areas in such waters (e.g., National Marine Sanctuaries), will be submitted to that state or territorial government's designated U.S. Coral Reef Task Force point of contact for comment;

(b) Proposals for projects in Federal waters will be submitted to the relevant Fishery Management Council for comment;

(c) Proposals for projects which require Federal permits will be submitted to the Federal agency which issued the permit for comment;

(d) Proposals for projects in Federal marine protected areas managed by Federal agencies (e.g., National Wildlife Refuges, National Parks, National Marine Sanctuaries, etc.) will be submitted to the respective Federal management authority for comment; and

(e) NOAA will seek comments from other government entities, authorities, and/or jurisdictions, including international entities for projects proposed outside of U.S. waters, as necessary based on the nature and scope of the proposed project.

Specifically, agencies will be requested to comment on: the extent to which the project is consistent with its coral reef conservation objectives, priorities and projects; whether the project has been coordinated with existing or planned projects; suggestions for improving project coordination and/or technical approach; the need for the applicant to obtain a permit or other authorization from the agency in order to conduct the project, and the status of that process; and, appropriate staff points of contact. Each entity will be provided 21 days to review and comment on subject proposals. Comments submitted will be part of the public record.

2. Each NOAA Program Office will provide for a merit-based peer review and standardized documentation of that review for proposals considered appropriate for funding under their respective category(s). Each proposal will be reviewed by a minimum of three individuals with knowledge of the subject of the proposal. The identities of the peer reviewers will be kept anonymous, to the extent permitted by law. Specific evaluation criteria for projects submitted under each funding category will be published in each annual Federal Register funding guidance.

3. Each NOAA Program Office will subsequently implement an internal review process to rank each proposal that is appropriate for funding under their program based upon consideration of: comments and recommendations from the reviews under paragraphs (1) and (2), and their evaluation of each proposal using the following five equally weighted criteria:

(a) Direct Benefit to Coral Reef Resources and Ecosystems: NOAA will evaluate proposals based on the potential of the project to meet goals and objectives as stated in this document, per section 6403(g) of the Act.

(b) Technical Merit and Adequacy of Implementation Plan: Proposals will be evaluated on the technical feasibility of the project and the qualifications of project leaders and/or partners based on demonstrated abilities to:

(i) Deliver the conservation objective stated in the proposal;

(ii) Provide educational benefits, where appropriate;

(iii) Incorporate assessment of project success in terms of meeting the proposed objectives;

(iv) Demonstrate that the conservation activity will be sustainable and long-lasting; and,

(v) Provide assurance that implementation of the project will meet all state environmental laws and Federal consistency requirements by obtaining or proceeding to obtain applicable permits and consultations.

(c) Past Performance: Proposals will be evaluated on the previous accomplishments of the applicants in achieving coral reef conservation objectives similar to those outlined in Section V. Eligible Coral Reef Conservation Activities of these Guidelines. Applicants submitting their first coral reef conservation project should document past experience in related activities.

(d) Consistency with the National Coral Reef Action Strategy and the National Action Plan to Conserve Coral Reefs: Proposals will be evaluated on how well they meet the specific programmatic goals and objectives of the National Coral Reef Action Strategy, developed pursuant to section 6402 of the Act, and the National Action Plan to Conserve Coral Reefs (U.S. Coral Reef Task Force, 2000), http://www.coralreef.noaa.gov). Applicants are strongly encouraged to review both documents and identify specific conservation objectives that their project proposal will address.

(e) Cost-effectiveness and Budget Justification: Proposals will be evaluated on their ability to demonstrate that significant benefit will be generated for the most reasonable cost. Projects will also be reviewed in terms of their need for funding and the ability of NOAA funds to act as a catalyst to implement projects and precipitate partnerships and other sources of funding to achieve conservation objectives. Preference will be given to projects that will be completed within a period of 12 to 18 months from the time the awards are distributed.

4. A NOAA review panel made up of representatives from each NOAA Program Office will review the project selections and ensure that all requirements of the Act are met, particularly those regarding the geographic funding distribution and consistency with the Strategy. This group will present recommendations to the NOAA Administrator, or his designee, for final approval. NOAA reserves the right to consult with applicants, prior to making an award, to determine the exact amount of funds to be awarded, as well as the most appropriate funding category and mechanism under which to consider the project for funding.

5. NOAA will provide written notification of a proposal's approval or disapproval to each applicant within 6 months of submitting a coral reef conservation proposal. Similarly, NOAA will also provide written notification of a project's approval to each State or other government jurisdiction that provided comments and/or reviews. Unsuccessful proposals will be held in the Program Office until the cooperative agreement or grant is awarded to the selected recipients and then will be destroyed.

Definitions

In this Program:

(1) Administrator means the Administrator of the National Oceanic and Atmospheric Administration.

(2) Conservation means the use of methods and procedures necessary to preserve or sustain corals and associated species as diverse, viable, and self-perpetuating coral reef ecosystems, including all activities associated with resource management, such as assessment, conservation, protection, restoration, sustainable use, and management of habitat; mapping; habitat monitoring; assistance in the development of management strategies for marine protected areas and marine resources consistent with the National Marine Sanctuaries Act (16 U.S.C. 1431 et seq.) and the Magnuson-Stevens Fishery Conservation and Management Act (16 U.S.C. 1801 et seq.); law enforcement; conflict resolution initiatives; community outreach and education; and that promote safe and ecologically sound navigation.

(3) Cooperative Agreement means a legal instrument reflecting a relationship between the Department of Commerce (DoC) and a recipient whenever: (1) The principal purpose of the relationship is to transfer money, property, services or anything of value to accomplish a public purpose of support or stimulation authorized by Federal statute, and (2) substantial involvement (e.g., collaboration, participation, or intervention by DoC in the management of the project) is anticipated between DoC and the recipient during performance of the contemplated activity.

(4) Coral means species of the phylum Cnidaria, including—

(a) all species of the orders Antipatharia (black corals), Scleractinia (stony corals), Gorgonacea (horny corals), Stolonifera (organpipe corals and others), Alcyanacea (soft corals), and Coenothecalia (blue coral), of the class Anthozoa; and,

(b) all species of the order Hydrocorallina (fire corals and hydrocorals) of the class Hydrozoa.

(5) Coral Reef means any reefs or shoals composed primarily of corals.

(6) Coral Reef Ecosystem means coral and other species of reef organisms (including reef plants) associated with coral reefs, and the non-living environmental factors that directly affect coral reefs, that together function as an ecological unit in nature.

(7) Coral Products means any living or dead specimens, parts, or derivatives, or any product containing specimens, parts, or derivatives, of any species referred to in paragraph (3).

(8) Grant means a legal instrument reflecting a relationship between DoC and a recipient whenever: (1) The principal purpose of the relationship is to transfer money, property, services, or anything of value in order to accomplish a public purpose of support or stimulation authorized by Federal statute and (2) no substantial involvement is anticipated between DoC and the recipient during the performance of the contemplated activity.

(9) Interagency Agreement, for the purposes of these Guidelines, means a written document containing specific provisions of governing authorities, responsibilities, and funding, entered into between NOAA and another Federal agency where NOAA is funding the other Federal agency, pursuant to the Act.

(10) Secretary means the Secretary of Commerce.

(11) State means any State of the United States that contains a coral reef ecosystem within its seaward boundaries, American Samoa, Guam, the Northern Mariana Islands, Puerto Rico, and the Virgin Islands, and any other territory or possession of the United States, or separate sovereign in free association with the United States, that contains a coral reef ecosystem within its seaward boundaries.

Classifications

This is a new Program and will be added to the Catalog of Federal Domestic Assistance under the Coastal Zone Management Act (11.419), Financial Assistance for National Centers for Coastal Ocean Science (11.426), and Habitat Conservation (11.463). The Program uses the Federal financial assistance award package requirements per 15 CFR parts 14 and 24.

The program will determine National Environmental Policy Act (NEPA) compliance on a project by project basis.

This action has been determined to be not significant for purposes of Executive Order 12866.

Applications under this program are not subject to Executive Order 12372, “Intergovernmental Review of Federal Programs.”

The use of the Federal financial assistance award package referred to in this notice involves collection-of-information requirements subject to the Paperwork Reduction Act. The use of Standard Forms 424, 424A, 424B, and SF-LLL have been approved by OMB under the respective control numbers 0348-0043, 0348-0044, 0348-0040, and 0348-0046.

The Guidelines also contain new collection-of-information requirements subject the Paperwork Reduction Act and which have been approved by OMB under control number 0648-0448. Public reporting burden for these collections of information is estimated to average one hour per request for a matching funds waiver (section IX(6) of these Guidelines) and one hour per comment on proposals (section X(1) of these Guidelines). These estimates include the time for reviewing instructions, searching existing data sources, gathering and maintaining the data needed, and completing and reviewing the collection of information. Send comments regarding this burden estimate, or any other aspect of these data collections, including suggestions for reducing the burden, to the NOAA Office of Response and Restoration, N/ORR, NOAA National Ocean Service, 1305 East-West Highway, Silver Spring, MD 20910 and to Office of Management and Budget (OMB) at the Office of Information and Regulatory Affairs, OMB, Washington, DC 20503, Attention: NOAA Desk Officer.

Notwithstanding any other provision of law, no person is required to respond to, nor shall any person be subject to a penalty for failure to comply with, a collection of information subject to the Paperwork Reduction Act, unless that collection displays a currently valid OMB control number.

Dated: April 15, 2002.
Alan Neuschatz,
Acting Assistant Administrator for Ocean Services and Coastal Zone Management.

[FR Doc. 02-9682 Filed 4-18-02; 8:45 am]

BILLING CODE 3510-JE-P; 3510-22-P